DEPARTMENT OF COMMERCE

Foreign-Trade Zones Board

[B-4-2025]

Foreign-Trade Zone (FTZ) 18; Authorization of Limited Production Activity; Halo Industries, Inc.; (Semiconductor Wafers); Santa Clara, California

On January 28, 2025, the City of San Jose Office of Economic Development, grantee of FTZ 18, submitted a notification of proposed production activity to the FTZ Board on behalf of Halo Industries, Inc., within Subzone 18R, in Santa Clara, California.

The notification was processed in accordance with the regulations of the FTZ Board (15 CFR part 400), including notice in the Federal Register inviting public comment (90 FR 9133, February 7, 2025). On September 29, the applicant was notified of the FTZ Board's decision that further review of part of the proposed activity is warranted. The FTZ Board authorized the production activity described in the notification on a limited basis, subject to the FTZ Act and the Board's regulations, including section 400.14, and further subject to a restriction requiring further review prior to the potential authorization of authority for the unfinished silicon carbide wafers component.

Dated: September 30, 2025.
Elizabeth Whiteman,
Executive Secretary.

[FR Doc. 2025-19406 Filed 10-2-25; 8:45 am]

BILLING CODE 3510-DS-P